SMALL BUSINESS ADMINISTRATION

Senior Executive Service: Performance Review Board Members

AGENCY: Small Business Administration.

ACTION: Notice of members for the FY 06 Performance Review Board.

SUMMARY: Section 4314(c)(4) of Title 5, U.S.C.; requires each agency to publish notification of the appointment of individuals who may serve as members of that Agency's Performance Review Board (PRB). The following individuals have been designated to serve on the FY 06 Performance Review Board for the U.S. Small Business Administration:

1. Michael W. Hager, Associate Deputy Administrator for Capital Access;

2. Darryl Hairston, Deputy Associate Deputy Administrator for Management and Administration;

3. Karen Hontz, Counselor to the Administrator;

4. Luz Hopewell, Associate Administrator for Business Development;

5. Herbert Mitchell, Associate Administrator for Disaster Assistance;

6. Cheryl A. Mills, Chair, Associate Deputy Administrator for Entrepreneurial Development; and

7. C. Edward Rowe, III, Associate Administrator for Congressional and Legislative Affairs.

Dated: November 3, 2006.
Steven C. Preston,
Administrator.

[FR Doc. E6-19209 Filed 11-14-06; 8:45 am]

BILLING CODE 8025-01-P